DEPARTMENT OF DEFENSE

Office of the Secretary

Adoption of Categorical Exclusion From the Department of the Navy Under the National Environmental Policy Act

AGENCY: Office of Local Defense Community Cooperation (OLDCC), Department of Defense (DoD).

ACTION: Notice of adoption of the Department of Navy's (DoN) Categorical Exclusion for facility renovation pursuant to section 109 of the National Environmental Policy Act (NEPA).

SUMMARY: OLDCC is adopting the DoN's Categorical Exclusion 14 for the alteration of an existing building. This notice describes the proposed action for which OLDCC intends to use the DoN Categorical Exclusion and details the consultation between the agencies.

FOR FURTHER INFORMATION CONTACT: Patrick J. O'Brien, Director, Office of Local Defense Community Cooperation, Office of the Secretary of Defense, 2231 Crystal Drive, Suite 520, Arlington VA 22202-4704, (703) 697-2130.

SUPPLEMENTARY INFORMATION:

I. NEPA and Categorical Exclusions

NEPA and Categorical Exclusions, 42 United States Code (U.S.C.) 4321-4347, requires all Federal agencies to assess the environmental impacts of their actions. Congress enacted NEPA to encourage productive and enjoyable harmony between humans and the environment, recognizing the profound impact of human activity and the critical importance of restoring and maintaining environmental quality to the overall welfare of humankind. NEPA seeks to ensure agencies consider the environmental effects of their proposed actions in their decision-making processes and inform and involve the public in that process. NEPA created the Council on Environmental Quality (CEQ), which based on 42 U.S.C. 4336c, promulgated NEPA implementing guidance at 40 Code of Federal Regulations (CFR) parts 1500 through 1508 (CEQ regulations).

To comply with NEPA, agencies determine the appropriate level of review—an Environmental Impact Statement (EIS), Environmental Assessment (EA), or categorical exclusion (42 U.S.C. 4336). If a proposed action is likely to have significant environmental effects, the agency must prepare an EIS and document its decision in a record of decision. Id. If the proposed action is not likely to have significant environmental effects or the effects are unknown, the agency may instead prepare an EA, which involves a more concise analysis and process than an EIS. Id. Following the EA, the agency may conclude the process with a finding of no significant impact if the analysis shows that the action will have no significant effects. If the analysis in the EA finds that the action is likely to have significant effects, however, then an EIS is required. Under NEPA and the CEQ regulations, a Federal agency may establish in its NEPA implementing procedures categorical exclusions, which are categories of actions the agency has determined normally do not significantly affect the quality of the human environment (40 CFR 1501.4, 1507.3(e)(2)(ii), 1508.1(d)). If an agency determines that a categorical exclusion covers a proposed action, it then evaluates the proposed action for extraordinary circumstances in which a normally excluded action may have a significant effect (40 CFR 1501.4(b)). If no extraordinary circumstances are present, or if further analysis determines that the extraordinary circumstances do not involve the potential for significant environmental impacts, the agency may apply the categorical exclusion to the proposed action without preparing an EA or EIS (40 CFR 1501.4). If the extraordinary circumstances have the potential to result in significant effects, the agency is required to prepare an EA or EIS.

Section 109 of NEPA, enacted as part of the Fiscal Responsibility Act of 2023, allows a Federal agency to adopt a categorical exclusion listed in another agency's NEPA procedures for a category of proposed agency actions for which the categorical exclusion was established (42 U.S.C. 4336(c)). To adopt another agency's categorical exclusion under section 109, an agency must identify the relevant categorical exclusion listed in that agency's (“establishing agency”) NEPA procedures that cover its category of proposed actions or related actions; consult with the establishing agency to ensure that the proposed adoption of the categorical exclusion to a category of actions is appropriate; identify to the public the categorical exclusion that the agency plans to use for its proposed actions; and document adoption of the categorical exclusion. Id. This notice documents OLDCC's adoption of DoN's categorical exclusion under Section 109 of NEPA.

II. Identification of the Categorical Exclusion

DoN's categorical exclusion for the alteration to an existing building when the environmental effects will remain substantially the same and the use is consistent with applicable regulations is codified in DoN's NEPA procedures as categorical exclusion 14 in 32 CFR 775.6(f)(14).

Proposed Action

The Manufacturers' Association of South-Central Pennsylvania (Association) proposes to renovate their existing facility at 3405 Board Road, York, Pennsylvania to simulate a manufacturing environment as part of the association's scope of work undertaken as part of an OLDCC Defense Manufacturing Community Support Program funded grant.

III. Rationale for the Categorical Exclusion

The proposed renovation will take place within the existing envelope of the facility by expanding training and classroom space. All proposed renovation activities will not require any ground disturbance or external changes. The proposed renovation will alter 6,000 square feet of the existing interior warehouse space, adjacent to the Association's currently occupied space of 12,000 square feet.

IV. Consideration of Extraordinary Circumstances

If an agency determines that a categorical exclusion covers a proposed action, the agency must evaluate the proposed action for extraordinary circumstances in which a normally excluded action may have a significant effect (40 CFR 1501.4(b)). OLDCC does not currently have its own NEPA implementing procedures to guide its application of extraordinary circumstances. Until OLDCC establishes NEPA implementing procedures, for purposes of considering extraordinary circumstances in connection with the DoN categorical exclusion discussed in this notice, OLDCC has considered whether the proposed action has the potential to result in significant effects, including by considering the factors listed in DoN's definition of extraordinary circumstances (32 CFR 775.6(e)(1)).

OLDCC has assessed the proposed action and determined that none of the extraordinary circumstances listed in 32 CFR 775.6(e)(1) that preclude the use of categorical exclusion 14 are applicable to the proposed action.

V. Consultation With DoN and Determination of Appropriateness

OLDCC and DoN consulted on the appropriateness of OLDCC's adoption of the categorical exclusion from July to September 2024. DoN has provided OLDCC with a “no objection concurrence” for OLDCC's proposed adoption of the categorical exclusion. This consultation included a review of DoN's experience applying the categorical exclusion and the proposed action for which OLDCC plans to utilize it. Following this consultation and review, OLDCC has determined that the impacts of the proposed action to renovate the Association's facility is similar to the impacts, which are not significant, of projects for which DoN may apply the categorical exclusion. Additionally, OLDCC determined that there are no extraordinary circumstances. Therefore, OLDCC has determined that its proposed use of DoN's categorical exclusion 14, as described within this notice, would be appropriate.

Notice to the Public and Documentation of Adoption

This notice documents adoption of the DoN categorical exclusion listed above in accordance with 42 U.S.C. 4336(c) and 32 CFR 775.6(e)(1) and is available for use by OLDCC, effective immediately.

Dated: December 19, 2024.
Stephanie J. Bost,
Alternate OSD Federal Register Liaison Officer, Department of Defense.

[FR Doc. 2024-30972 Filed 12-27-24; 8:45 am]

BILLING CODE 6001-FR-P